POSTAL SERVICE

39 CFR Part 111

Bound Printed Matter: Flat-Size Mail Co-Packaging, Co-Sacking, and Higher DDU Rate Minimum Weight

AGENCY: Postal Service.

ACTION: Proposed rule.

SUMMARY: The Postal Service is proposing revisions to the Domestic Mail Manual (DMM) that would provide new mail preparation standards for co-packaging and co-sacking flat-size Bound Printed Matter. The standards for co-packaging would be optional, while the standards for co-sacking would be mandatory beginning on June 1, 2003. Prior to that date, the use of the co-sacking standards would be optional.

Also proposed is a change in the minimum weight for Presorted Bound Printed Matter flats claimed at the destination delivery unit (DDU) rate. The minimum weight for such pieces is proposed to change from “more than 1 pound” to “more than 20 ounces.”

DATES: Submit comments on or before December 19, 2002.

ADDRESSES: Mail or deliver written comments to the Manager, Mail Preparation and Standards, U.S. Postal Service, 1735 N. Lynn Street, Room 3025, Arlington, VA 22209-6038. Written comments may also be submitted via fax to 703-292-4058. Copies of all written comments will be available for inspection and photocopying between 9 a.m. and 4 p.m., Monday through Friday, at the Postal Service Headquarters Library, 475 L'Enfant Plaza SW, 11th Floor North, Washington, DC.

FOR FURTHER INFORMATION CONTACT: Jane Stefaniak at (703) 292-3548, Mail Preparation and Standards, United States Postal Service.

SUPPLEMENTARY INFORMATION: Through several past rulemakings (65 FR 52480, 66 FR 28659, and 66 FR 58944) the Postal Service has established mail preparation standards in Domestic Mail Manual (DMM) M900 for co-packaging and co-traying flat-size First-Class Mail, and for co-packaging and co-sacking flat-size Periodicals and Standard Mail. At this time, the Postal Service is proposing to further extend these standards to allow the co-packaging and co-sacking of flat-size Bound Printed Matter pieces that are compatible with processing on the automated flat sorting machine (AFSM) 100.

Bound Printed Matter Presorted rate flats (no barcode required) and Presorted rate flats that bear a ZIP+4 or delivery point barcode and claim the barcoded discount are usually processed by the Postal Service within the same operation. For this reason, allowing packages of flat-size barcoded and nonbarcoded pieces to be combined within the same container (i.e., co-sacking) can provide operational efficiencies that could reduce costs. Additionally, the need for the Postal Service to segregate flat-size barcoded and nonbarcoded pieces within a package no longer exists due to advances, such as the optical character reader (OCR) and image lift capabilities of the AFSM 100. Therefore, it would not be operationally beneficial to continue to require the separate preparation of Bound Printed Matter Presorted rate flats that qualify for the barcoded discount and Presorted rate flats that do not qualify for the barcoded discount. Continuing to segregate barcoded and nonbarcoded flats would result in more packages and sacks, reduce the average depth of sort, and cause additional workhours for the Postal Service associated with sorting, opening, and prepping flats for processing.

Under the proposed co-sacking standards for flat-size Bound Printed Matter, mailers would be required, beginning June 1, 2003, to co-sack (i.e., sort into the same sack) packages of Presorted rate pieces qualifying for the barcoded discount with packages of Presorted rate pieces not claiming the barcoded discount. Additionally, mailers would have the option to co-package (i.e., sort into the same package) flat-size Bound Printed Matter Presorted rate pieces qualifying for the barcoded discount and Presorted rate pieces not qualifying for the barcoded discount within the same package. Co-packaged pieces would be required to be co-sacked under DMM M910. The containerization methods permitted for First-Class Mail, Periodicals, and Standard Mail in existing DMM M920, M930, and M940 would not be available for Bound Printed Matter.

The proposed standards for the optional co-packaging of Bound Printed Matter flats would include the following:

• All pieces would be required to weigh 20 ounces or less and meet the AFSM 100 criteria for automation-compatible flat-size mail in DMM M820.

• Presorted rate pieces qualifying for the barcoded discount would be required to be part of a Presorted rate mailing of at least 300 flat-size pieces and be prepared under DMM M820. Presorted rate pieces not claiming the barcoded discount would be required to be part of a mailing of at least 300 pieces prepared under DMM M722.

• Each piece in the Presorted rate mailing qualifying for the barcoded discount would be required to bear a correct and readable ZIP+4 or delivery point barcode (DPBC) under DMM C840. Each piece in the Presorted rate mailing would be required to bear a correct and readable 5-digit barcode under DMM C840.

• Presorted rate pieces qualifying for the barcoded discount would be required to be sorted together with the Presorted rate pieces, but only one physical package for each logical presort destination would be permitted to include pieces for both rate categories, unless presented using an approved manifest mailing system under DMM P910.

• Mailing that are co-packaged pieces would be required to be co-sacked under DMM M910.

The proposed standards for the co-sacking of Bound Printed Matter flats would include the following:

• Packages prepared as part of the Presorted rate mailing qualifying for the barcoded discount and packages prepared as part of the Presorted rate mailing not qualifying for the barcoded discount would be required to be co-sacked, effective June 1, 2003.

• Packages of flats qualifying for the barcoded discount that are co-sacked with packages of Presorted rate flats would be required to be part of the same mailing job.

• Both the Presorted rate mailing qualifying for the barcoded discount and the Presorted rate mailing not qualifying for the barcoded discount would be required to separately meet the applicable rate eligibility and volume requirements.

• Packages that are co-sacked under DMM M910 would not be required to be co-packaged.

Standardized documentation under DMM P012 would be required for mailings prepared under the proposed standards for co-packaging and co-sacking as follows:

• Documentation for a co-packaged mailing would be required to indicate by zone (when applicable) the number of Presorted rate pieces qualifying for the barcoded discount and the number of Presorted rate pieces not claiming the barcoded discount that are contained in each package.

• Documentation for a co-sacked mailing would be required to indicate by zone (when applicable) for each sack sortation level, the number of Presorted rate pieces qualifying for the barcode discount, and the number of Presorted rate pieces not claiming the barcoded discount that are contained in each sack.

If this proposal is adopted, mailers could begin using the co-packaging and co-sacking standards for Bound Printed Matter flats immediately. The standards for co-packaging would be optional. The Postal Service is proposing the mandatory use of the co-sacking preparation standards beginning on June 1, 2003. The delayed implementation date would ensure that mailers could meet all operational requirements for the co-sacking standards.

As part of this notice, an additional DMM revision is proposed that would change the minimum weight in DMM E752.4.2 for Presorted rate Bound Printed Matter flats claimed at the destination delivery unit (DDU) rates from “more than 1 pound” to “more than 20 ounces.” The corresponding text in DMM R700.2.5 would also be revised. Based on operational conditions and requirements, this proposed change would position the minimum weight for DDU rate Presorted Bound Printed Matter flats to begin after the point where the maximum weight of 20 ounces for AFSM 100 Bound Printed Matter flats ends. The maximum weight for AFSM 100 Bound Printed Matter flats was published in a previous Federal Register final rule (67 FR 40164). That final rule established a maximum weight of 20 ounces for AFSM 100 Bound Printed Matter flats which became effective on June 30, 2002. This change to the minimum weight for DDU rate Bound Printed Matter flats would allow the Postal Service to maximize the use of its automated processing equipment.

Although exempt from the notice and comment requirements of the Administrative Procedure Act [5 U.S.C. of 553(b), (c)] regarding proposed rulemaking by 39 U.S.C. 410(a), the Postal Service invites public comment on the following proposed revisions to the Domestic Mail Manual, incorporated in the Code of Federal Regulations. See 39 CFR 111.1.

List of Subject in 39 CFR Part 111

Administrative Practice and Procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

E ELIGIBILITY

* * * * *

E700 Package Services

* * * * *

E752 Bound Printed Matter

* * * * *

4.0 DESTINATION DELIVERY UNIT (DDU) RATES

* * * * *

4.2 Presorted Flats

[Revise 4.2 by changing “1 pound” to “20 ounces” in order to align the weight with the previously implemented AFSM 100 requirements, to read as follows:]

Presorted flats that weigh more than 20 ounces in 5-digit sacks, on 5-digit scheme or 5-digit pallets, or prepared as bedloaded 5-digit packages may claim DDU rates. Mail must be entered at the appropriate facility under 4.1. Presorted flats weighing 20 ounces or less are not eligible for the DDU rate.

* * * * *

M MAIL PREPARATION AND SORTATION

M000 General Preparation Standards

M010 Mailpieces

M011 Basic Standards

1.0 TERMS AND CONDITIONS

* * * * *

1.3 Preparation Instructions

For purposes of preparing mail:

* * * * *

[Revise 1.3ad to read as follows:]

ad. Co-packaging is an alternate preparation method available under M950 for First-Class Mail, Periodicals, and Standard Mail that allows the combining of flat-size automation rate and Presorted rate pieces within the same package under the single minimum package size requirement. Co-packaging is also available for combining flat-size Bound Printed Matter Presorted pieces qualifying for the barcoded discount and Presorted rate pieces not qualifying for the barcoded discount within the same package. Pieces may not be combined in more than one physical package for each logical presort destination unless presented using an approved manifest mailing system under P910.

1.4 Mailing

Mailings are defined as:

* * * * *

[Revise item e by adding references to the advanced preparation options for flat-sized Bound Printed Matter in M900, to read as follows (the remainder of 1.4 is unchanged):]

e. Package Services. Except for single-piece rate pieces not otherwise subject to a minimum mailing requirement that are presented under an approved manifest mailing system under P910, the types of Package Services listed below may not be part of the same mailing even if in the same processing category. See M910 and M950 for the advanced preparation options available for flat-size Bound Printed Matter.* * *

* * * * *

M030 Containers

* * * * *

M032 Barcoded Labels

1.0 BASIC STANDARDS—TRAY AND SACK LABELS

* * * * *

Exhibit 1.3a 3-Digit Content Identifier Numbers

[Revise Exhibit 1.3a by adding new categories and Content Identifier Numbers for co-sacked Bound Printed Matter, to read as follows:]

PACKAGE SERVICES
* * * * * * *
BPM Flats—Co-Sacked Barcoded and Presorted:
5-digit sacks | 648 | PSVC FLTS 5D BC/NBC.
3-digit sacks | 661 | PSVC FLTS 3D BC/NBC.
SCF sacks | 667 | PSVC FLTS SCF BC/NBC.
ADC sacks | 668 | PSVC FLTS ADC BC/NBC.
Mixed ADC sacks | 669 | PSVC FLTS BC/NBC WKG.

* * * * *

M700 Package Services

* * * * *

M720 Bound Printed Matter

* * * * *

M722 Presorted Bound Printed Matter

1.0 BASIC STANDARDS

* * * * *

[Add new 1.5 to read as follows:]

1.5 Co-Sacking Flats With Barcoded Mail

The following standards apply:

a. If the mailing job contains a carrier route mailing, a Presorted mailing qualifying for the barcoded discount, and a Presorted rate mailing, then it must be prepared using one of the following options:

(1) All three mailings in the mailing job must be prepared using the appropriate standards in M722, M723, and M820.

(2) The carrier route mailing must be prepared under E712 and M723, and the Presorted mailing qualifying for the barcoded discount and the Presorted rate mailing must be prepared under the co-sacking standards in M910.

b. If the mailing job contains a Presorted mailing qualifying for the barcoded discount and a Presorted rate mailing, then it must be prepared using one of the following options:

(1) Both mailings must be prepared using the appropriate preparation in M722 and M820.

(2) Both mailings must be prepared under the co-sacking standards in M910.

c. If the mailing job contains a carrier route mailing and a Presorted rate mailing, then it must be separately sacked under M722 and M723.

d. At the mailer's option, Presorted pieces qualifying for the barcoded discount may be co-packaged with Presorted rate pieces under M950.

* * * * *

M800 All Automation Mail

* * * * *

M820 Flat-Size Mail

1.0 BASIC STANDARDS

* * * * *

1.9 Co-Traying, Co-Sacking, and Co-Packaging With Presorted Rate Mail

The following standards apply:

* * * * *

[Add new item d for Bound Printed Matter to read as follows:]

d. Bound Printed Matter:

(1) If the mailing job contains a carrier route mailing, a Presorted mailing qualifying for the barcoded discount, and a Presorted rate mailing, then it must be prepared using one of the following options:

(a) All three mailings in the mailing job must be prepared using the appropriate preparation in M722, M723, and M820.

(b) The carrier route mailing must be prepared under E712 and M723, and the Presorted mailing qualifying for the barcoded discount and the Presorted rate mailing must be prepared under the co-sacking standards in M910.

(2) If the mailing job contains only a Presorted rate mailing qualifying for the barcoded discount and a Presorted rate mailing, then it must be prepared using one of the following options:

(a) Both mailings must be prepared using the appropriate preparation in M722 and M820.

(b) Both mailings must be prepared under the co-sacking standards in M910.

(3) If the mailing job contains only a carrier route mailing and a Presorted mailing qualifying for the barcoded discount, then it must be separately prepared under M723 and M820.

(4) At the mailer's option, Presorted pieces qualifying for the barcoded discount may be co-packaged with Presorted rate pieces under M950.

* * * * *

6.0 BOUND PRINTED MATTER

* * * * *

6.2 Sack Preparation and Labeling

[Revise 6.2 to read as follows:]

Preparation sequence, sack size, and labeling:

a. 5-digit (required); minimum 20 addressed pieces; labeling:

(1) Line 1: city, state, and 5-digit ZIP Code destination of packages, preceded for military mail by correct prefix under M031.

(2) Line 2: “PSVC FLTS 5D BC.”

b. 3-digit (required); minimum 20 addressed; labeling:

(1) Line 1: L002, Column A.

(2) Line 2: “PSVC FLTS 3D BC.”

c. SCF (required for each 3-digit ZIP Code served by the SCF of the origin (verification) office; optional for each 3-digit ZIP Code served by the SCF of an entry office other than the origin office); minimum 20 addressed pieces; labeling:

(1) Line 1: L005.

(2) Line 2: “PSVC FLTS SCF BC.”

d. ADC (required); minimum 20 addressed pieces (use L004 to determine ZIP Codes served by each ADC); labeling:

(1) Line 1: L004.

(2) Line 2: “PSVC FLTS ADC BC.”

e. Mixed ADC (required); no minimum; labeling:

(1) Line 1: L803. If entered by mailer at an ASF or BMC, L802.

(2) Line 2: “PSVC FLTS BC/NBC WKG.”

* * * * *

M900 Advanced Preparation Options for Flats

M910 Co-Traying and Co-Sacking Packages of Automation and Presorted Mailings

[Revise the Summary to include the new option for preparing flat-size Bound Printed Matter, to read as follows:]

Summary

M910 describes the eligibility and preparation requirements for co-traying flat-size packages of automation rate and Presorted rate First-Class Mail. It also describes the eligibility and preparation requirements for co-sacking flat-size packages of nonletter-size automation rate and Presorted rate Periodicals, flat-size packages of automation rate and Presorted rate Standard Mail, and flat-size packages of Bound Printed Matter Presorted rate qualifying for the barcoded discount and Presorted rate (not qualifying for the barcoded discount).

* * * * *

[Add new 4.0, Bound Printed Matter, to provide preparation requirements for co-sacking flat-size BPM, to read as follows:]

4.0 BOUND PRINTED MATTER

4.1 Basic Standards

Effective June 1, 2003, mailers must co-sack packages of flat-size pieces from a Presorted mailing qualifying for the barcoded discount with packages of flat-size pieces from a Presorted rate mailing under the following conditions:

a. The Presorted pieces qualifying for the barcoded discount and the Presorted rate pieces are part of the same mailing job and are reported on the same postage statement.

b. The Presorted pieces qualifying for the barcoded discount must meet the criteria for flat-size mail under C050 and C820. Pieces in the Presorted rate mailing must meet the criteria for flat-size mail under C050.

c. The Presorted mailing qualifying for the barcoded discount must meet the eligibility criteria in E712, except that the sacking and documentation criteria in 4.1 and 4.4 must be met rather than the sacking and documentation criteria in M820.

d. The Presorted rate mailing must meet the eligibility criteria in E712, except that the sacking and documentation criteria in 4.1 and 4.4 must be met rather than the sacking and documentation criteria in M722.

e. The rates for pieces in the Presorted mailing qualifying for the barcoded discount are applied based on the number of pieces in the package, the level of package to which they are sorted under M722, and when applicable, the zone. The rates for pieces in the Presorted rate mailing are based on the number of pieces in the package, the level of sack in which they are placed under E712, and when applicable, the zone.

f. The pieces must be marked according to M012.

g. The packages prepared from the Presorted mailing qualifying for the barcoded discount and the packages prepared from the Presorted rate mailing must be sorted into the same sacks as described in 4.4.

h. A complete, signed postage statement(s), using the correct Postal Service form or an approved facsimile, must accompany each mailing job prepared under these procedures. Standardized documentation under P012 must also be submitted with each co-sacked mailing job and must describe for each sack sortation level, the number of pieces qualifying for the barcode discount, and the number of pieces that qualify for each applicable Presorted rate. i. Barcoded sack labels under M032 must be used to label the sacks.

4.2 Package Preparation

Except for mail prepared under the co-packaging option in 4.3, the Presorted mailing qualifying for the barcoded discount must be packaged and labeled under M820 and the Presorted rate mailing must be packaged and labeled under M722.

4.3 Optional Co-Packaging Preparation

As an option to the basic packaging requirements in 4.2, a mailer may co-package flat-size Presorted pieces qualifying for the barcoded discount and flat-size Presorted rate pieces, subject to M950.

4.4 Sack Preparation and Labeling

Packages of Presorted pieces qualifying for the barcoded discount and Presorted rate pieces prepared under 4.2 and 4.3 must be presorted together into sacks (co-sacked) using the following preparation sequence, sack size, and labeling:

a. 5-digit (required); minimum 20 addressed pieces; labeling:

(1) Line 1: city, state, and 5-digit ZIP Code destination of packages, preceded for military mail by correct prefix under M031.

(2) Line 2: “PSVC FLTS 5D BC/NBC.”

b. 3-digit (required); minimum 20 addressed pieces; labeling:

(1) Line 1: L002, Column A.

(2) Line 2: “PSVC FLTS 3D BC/NBC.”

c. SCF (required for each 3-digit ZIP Code served by the SCF of the origin (verification) office; optional for each 3-digit ZIP Code served by the SCF of an entry office other than the origin office); minimum 20 addressed; labeling:

(1) Line 1: L005.

(2) Line 2: “PSVC FLTS SCF BC/NBC.”

d. ADC (required); minimum 20 addressed (use L004 to determine ZIP Codes served by each ADC); labeling:

(1) Line 1: L004.

(2) Line 2: “PSVC FLTS ADC BC/NBC.”

e. Mixed ADC (required); no minimum; labeling:

(1) Line 1: L803. If entered by mailer at an ASF or BMC, L802.

(2) Line 2: “PSVC FLTS BC/NBC WKG.”

* * * * *

M950 Co-Packaging Automation Rate and Presorted Rate Pieces Summary

[Revise the Summary to include the new option for preparing flat-size Bound Printed Matter, to read as follows:]

M950 describes the eligibility and preparation requirements for co-packaging flat-size automation rate and Presorted rate First-Class Mail, nonletter-size automation rate and Presorted rate Periodicals, flat-size automation rate and Presorted rate Standard Mail, and flat-size Presorted rate qualifying for the barcoded discount and Presorted rate (not qualifying for the barcoded discount) Bound Printed Matter.

* * * * *

[Add new 4.0, Bound Printed Matter, to provide co-packaging preparation requirements for flat-size BPM under M950, to read as follows:]

4.0 BOUND PRINTED MATTER

4.1 Basic Standards

Mailers may choose to co-package flat-size Presorted pieces qualifying for the barcoded discount and Presorted rate pieces as an option to the basic packaging requirements in M722 and M820, subject to the following conditions:

a. The pieces in the Presorted mailing qualifying for the barcoded discount and the pieces in the Presorted rate mailing must be part of the same mailing job and must be reported on the same postage statement.

b. The pieces in the mailing job must be flat-size and meet any other size and mailpiece design requirements applicable to the rate category for which they are prepared.

c. Mailings prepared in sacks must meet the basic standards in M910.

d. A minimum of 300 Presorted pieces qualifying for the barcoded discount and a minimum of 300 Presorted rate pieces are required. The total number of pieces qualifying for the barcoded discount and the total number of pieces qualifying for the Presorted rate must be used to meet the minimum volume requirements for packages and containers.

e. Presorted rate pieces must contain a 5-digit barcode and be co-packaged with Presorted pieces qualifying for the barcoded discount for the same presort destination. If this optional preparation method is used, all barcoded discount pieces and Presorted rate pieces in the same mailing job and reported on the same postage statement must be co-packaged.

f. All pieces must meet the AFSM 100 requirements described in C820.

g. Unless presented using an approved manifest mailing system under P910, mailers must sort Presorted pieces qualifying for the barcoded discount and Presorted rate pieces for each presort destination so that only one physical package for each logical presort destination includes both Presorted pieces qualifying for the barcoded discount (containing a ZIP+4 or delivery point barcode) and Presorted rate pieces (containing a 5-digit barcode).

4.2 Package Preparation

Package size, preparation sequence, and labeling:

a. 5-digit (required); minimum 10 addressed pieces or 10 pounds, maximum package weight 20 pounds; red Label D or optional endorsement line (OEL).

b. 3-digit (required); minimum 10 addressed pieces or 10 pounds, maximum package weight 20 pounds; green Label 3 or OEL.

c. ADC (required); minimum 10 addressed pieces or 10 pounds, maximum package weight 20 pounds; pink Label A or OEL.

d. Mixed ADC (required); no minimum, maximum package weight 20 pounds; tan Label MXD or OEL.

R RATES AND FEES

* * * * *

R700 Package Services

* * * * *

2.0 BOUND PRINTED MATTER

* * * * *

2.5 Destination Entry Rates—Flats

[Remove the last sentence and replace it with the following sentence:]

* * * Presorted flats weighing 20 ounces or less are not eligible for the DDU rate.

* * * * *

An appropriate amendment to 39 CFR 111 to reflect the changes will be published if the proposal is adopted.

Stanley F. Mires,
Chief Counsel, Legislative.

[FR Doc. 02-29340 Filed 11-18-02; 8:45 am]

BILLING CODE 7710-12-P